DEPARTMENT OF COMMERCE

International Trade Administration

[A-570-836]

Glycine From the People's Republic of China: Notice of Extension of Time Limit for Preliminary Results of Antidumping Duty New Shipper Review

AGENCY: Import Administration, International Trade Administration, Department of Commerce.

EFFECTIVE DATE: November 19, 2002.

FOR FURTHER INFORMATION CONTACT: Matthew Renkey or Scot Fullerton, Office of AD/CVD Enforcement VII, Import Administration, International Trade Administration, U.S. Department of Commerce, 14th Street and Constitution Avenue, NW, Washington DC 20230; telephone: (202) 482-2312 or (202) 482-1386, respectively.

SUPPLEMENTARY INFORMATION:

The Applicable Statute

Unless otherwise indicated, all citations are to the Tariff Act of 1930, as amended (the Act). In addition, unless otherwise indicated, all citations to the Department's regulations are to 19 CFR part 351 (2002).

Background

In accordance with 19 CFR § 351.214(b)(2), on March 29, 2002, the Department received the timely and properly filed request from Tianjin Tiancheng Pharmaceutical Co., Ltd. (TTPC), for a new shipper review of its exports of glycine. On May 17, 2002, the Department initiated a new shipper review of the antidumping duty order on glycine for the period of review of March 1, 2001 through February 28, 2002. (67 FR 36572)

Extension of Time Limit for Preliminary Results

Section 351.214(i)(1) of the Department's regulations requires the Department to issue preliminary results of a new shipper review within 180 days of the date of initiation. However, if the Secretary concludes that a new shipper review is extraordinarily complicated, the Secretary may extend the 180-day period to 300 days under section 351.214(i)(2) of the Department's regulations. Because of the complex nature of both TTPC's supplier relationships and its reported factors of production information, and the resultant need to gather additional information and conduct further analysis into these areas, we find this review to be extraordinarily complicated.

Accordingly, the Department is extending the time limit for the completion of the preliminary results to 300 days after the date of initiation, in accordance with section 751(a)(2)(B)(iv) of the Act and 351.214(i)(2) of the Department's regulations. The preliminary results will now be due on March 13, 2003. The final results will in turn be due 90 days after the date of issuance of the preliminary results, unless extended.

Dated: November 12, 2002.
Barbara E. Tillman,
Acting Deputy Assistant Secretary for Import Administration, Group III.

[FR Doc. 02-29345 Filed 11-18-02; 8:45 am]

BILLING CODE 3510-DS-S